DEPARTMENT OF THE INTERIOR

[LLCAD00000 L19900000.AL 0000]

Meeting of the California Desert District Advisory Council

AGENCY: Bureau of Land Management, Interior.

ACTION: Notice of public meeting.

SUMMARY: Notice is hereby given, in accordance with Public Laws 92-463 and 94-579, that the California Desert District Advisory Council to the Bureau of Land Management, U.S. Department of the Interior, will meet in formal session on Friday, August 28, 2009, from 1 p.m. to 4:30 p.m., and on Saturday, August 29, from 8 a.m. to 4 p.m. at the Riverside Marriott, 3400 Market St., Riverside, CA 92501.

Agenda topics will include updates by Council members and reports from the BLM District Manager and five field office managers. Additional agenda topics may include updates on legislation, renewable energy, the wild horse and burro program, DesertXpress, and grazing. Final agenda items will be posted on the BLM California State Web site at http://www.blm.gov/ca/news/rac.html.

SUPPLEMENTARY INFORMATION: All California Desert District Advisory Council meetings are open to the public. Public comment for items not on the agenda will be scheduled at the beginning of the meeting Friday afternoon, as well as Saturday morning. Time for public comment may be made available by the Council Chairman during the presentation of various agenda items, and is scheduled at the end of the meeting for topics not on the agenda.

While the meetings are tentatively scheduled to conclude at 4:30 p.m. on Friday and 4 p.m. on Saturday, they could conclude earlier should the Council conclude its presentations and discussions. Therefore, members of the public interested in a particular agenda item or discussion should schedule their arrival accordingly.

Written comments may be filed in advance of the meeting for the California Desert District Advisory Council, c/o Bureau of Land Management, External Affairs, 22835 Calle San Juan de Los Lagos, Moreno Valley, CA 92553. Written comments also are accepted at the time of the meeting and, if copies are provided to the recorder, will be incorporated into the minutes.

FOR FURTHER INFORMATION CONTACT: David Briery, BLM California Desert District External Affairs, 951.697.5220.

Dated: July 14, 2009.
Steven J. Borchard,
District Manager.

[FR Doc. E9-17783 Filed 7-24-09; 8:45 am]

BILLING CODE P